DEPARTMENT OF ENERGY

Federal Energy Regulatory Commission

Combined Notice Of Filings #2

Take notice that the Commission received the following electric rate filings:

Docket Numbers: ER11-1844-003.

Applicants: Midcontinent Independent System Operator, Inc.

Description: Report Filing: 2016-11-21_Submittal of refund report related to ITC PARs Order to be effective N/A.

Filed Date: 11/21/16.

Accession Number: 20161121-5141.

Comments Due: 5 p.m. ET 12/12/16.

Docket Numbers: ER17-55-001.

Applicants: South Carolina Electric & Gas Company.

Description: Compliance filing: Order Nos 827 and 828 Attachment N to be effective 10/14/2016.

Filed Date: 11/21/16.

Accession Number: 20161121-5059.

Comments Due: 5 p.m. ET 12/12/16.

Docket Numbers: ER17-90-001.

Applicants: Public Service Company of Colorado.

Description: Compliance filing: Order 827 and 828 Compliance Amendment to be effective 10/14/2016.

Filed Date: 11/21/16.

Accession Number: 20161121-5061.

Comments Due: 5 p.m. ET 12/12/16.

Docket Numbers: ER17-396-000.

Applicants: PJM Interconnection, L.L.C.

Description: Tariff Cancellation: Notice of Cancellation of WMPA SA No. 2933, Queue No. W2-076 to be effective 1/17/2017.

Filed Date: 11/21/16.

Accession Number: 20161121-5060.

Comments Due: 5 p.m. ET 12/12/16.

Docket Numbers: ER17-397-000.

Applicants: Pacific Wind Lessee, LLC.

Description: § 205(d) Rate Filing: Revised Shared Transmission Facilities Agreement & Request for Waiver to be effective 9/14/2016.

Filed Date: 11/21/16.

Accession Number: 20161121-5097.

Comments Due: 5 p.m. ET 12/12/16.

Docket Numbers: ER17-398-000.

Applicants: Westar Energy, Inc.

Description: § 205(d) Rate Filing: Ironwood Certificate of Concurrence for Amended and Restated Sub. Use Agreement to be effective 12/23/2016.

Filed Date: 11/21/16.

Accession Number: 20161121-5114.

Comments Due: 5 p.m. ET 12/12/16.

Docket Numbers: ER17-399-000.

Applicants: Midcontinent Independent System Operator, Inc., Duke Energy Indiana, LLC.

Description: § 205(d) Rate Filing: 2016-11-21_SA 2285 Duke Energy-AEP WDS (Hagerstown) to be effective 2/1/2017.

Filed Date: 11/21/16.

Accession Number: 20161121-5137.

Comments Due: 5 p.m. ET 12/12/16.

Docket Numbers: ER17-400-000.

Applicants: Kelly Creek Wind, LLC.

Description: § 205(d) Rate Filing: Filing of Kelly Creek Rate Schedule FERC No. 1 re Reactive Power Compensation to be effective 2/1/2017.

Filed Date: 11/21/16.

Accession Number: 20161121-5184.

Comments Due: 5 p.m. ET 12/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2016.
Nathaniel J. Davis, Sr.,
Deputy Secretary.

[FR Doc. 2016-28465 Filed 11-25-16; 8:45 am]

BILLING CODE 6717-01-P